DEPARTMENT OF HOMELAND SECURITY

Science and Technology Directorate; Notice of Availability (NOA) for the Draft Environmental Impact Statement (DEIS) for the proposed National Bio and Agro-Defense Facility (NBAF)

AGENCY: Science and Technology Directorate (Office of National Laboratories within the Office of Research), DHS.

ACTION: Notice of Availability of the Draft Environmental Impact Statement for the National Bio and Agro-Defense Facility (NBAF).

SUMMARY: The Proposed Action to site, build, and construct the National Bio and Agro-Defense Facility (NBAF) would allow researchers to study foreign animal diseases (FAD) and zoonotic diseases (transmitted from animals to humans) for basic research, improving diagnostic tests, and developing effective vaccines and other countermeasures such as antiviral therapies. DHS anticipates that the NBAF would focus biosafety level 3 agricultural (BSL-3Ag) research on African swine fever, classical swine fever, contagious bovine pleuropneumonia, foot and mouth disease (FMD), Japanese encephalitis, and Rift Valley fever (RVF), as well as BSL-4 research on Hendra and Nipah viruses. The NBAF would be approximately 500,000 to 520,000 square feet and consist of a primary laboratory building with a vaccine development laboratory adjacent or contiguous to it. The primary research building would contain the BSL-2, BSL-3E, BSL-3Ag, and BSL-4 laboratories with their associated support spaces. The other laboratory building would be a current good manufacturing practice (cGMP) laboratory adjacent to the primary research laboratory. The cGMP laboratory would be needed for vaccine candidate production. Other out buildings would be considered ancillary and necessary to support operation of the NBAF. Those buildings would include a guardhouse, transshipping facility, and central utility plant.

DATES: The comment period for the DEIS will end 60 days after publication of the NOA in the Federal Register by the U.S. Environmental Protection Agency.

ADDRESSES: To obtain a copy of the DEIS, ask questions, or submit written comments, contact Department of Homeland Security; Science and Technology Directorate; Mr. James V. Johnson: Mail Stop #2100; 245 Murray Lane, SW., Building 410; Washington, DC 20528.

FOR FURTHER INFORMATION CONTACT: All comments, both oral and written, received during this 60 day public comment period will be given equal consideration when finalizing the NBAF EIS. Comments may be submitted at the public meetings or online at http://www.dhs.gov/nbaf [click on Environmental Impact Statement]. You may also call: Toll-free fax 1-866-508-NBAF (6223); Toll-free voice mail; or 1-866-501-NBAF (6223).

SUPPLEMENTARY INFORMATION: Consultation between DHS and the United States Department of Agriculture (USDA) on a coordinated biodefense strategy called for in Homeland Security Presidential Directives 9 and 10 have revealed a gap that must be filled by an integrated research, development, test, and evaluation (RD&T) infrastructure for combating bio and agro terrorism threats. DHS S&T is responsible for filling this gap in a safe, secure, and environmentally sound manner. The proposed NBAF is envisioned to provide the nation with the first integrated agricultural zoonotic disease and animal health RD&T facility with the capability to address threats from high consequence zoonotic disease agents and foreign animal diseases.

DHS intends to select a single site for the construction of the NBAF. The NBAF DEIS analyzes six action alternatives as well as the No Action Alternative. The six action alternatives include construction and operation of the proposed NBAF at one of the following six site alternatives: (1) South Milledge Avenue Site; Athens, Georgia; (2) Manhattan Campus Site; Manhattan, Kansas; (3) Flora Industrial Park Site; Flora, Mississippi; (4) Plum Island Site; Plum Island, New York; (5) Umstead Research Farm Site; Butner, North Carolina; and (6) Texas Research Park Site; San Antonio, Texas. Under the No Action Alternative, the NBAF would not be constructed and DHS would continue to use the Plum Island Animal Disease Center with necessary investments in facility upgrades, replacements, and repairs so that it could continue to operate at its current capability, but not the expanded mission requirements associated with the NBAF.

DHS has not identified a Preferred Alternative. The evaluation conducted during the NEPA process will be used in conjunction with other factors to assist DHS in selecting the proposed federal action. Additional studies are being performed concurrently with this EIS that will provide important decision-making information. Results of these studies will be used in the development of the Final EIS and the Record of Decision (ROD). In order to make these decisions and formulate the ROD, the following reports will be considered: (1) EIS, (2) Threat and Risk Assessment, (3) Site Cost Analysis, (4) Site Characterization Study, (5) Plum Island Facility Closure and Transition Cost Study; and (6) Prior analysis of the alternative sites against DHS's site selection evaluation criteria.

The information contained in these reports will assist DHS and USDA, a major stakeholder in this endeavor, in considering the protection of the public and the environment while meeting the need for a modern, high-security BSL-3Ag and BSL-4 research facility with the capabilities needed to address potential threats to our agriculture.

Comments on the Draft EIS received during the 60-day public comment period will be considered in preparing the Final EIS. Public meetings to comment on the NBAF DEIS will be held at various locations near each alternative site location and in Washington, DC. Notification of the times and locations for the public meetings will be published in local news media and on the DHS Web site, http://www.dhs.gov/nbaf [click on Environmental Impact Statement]. The dates of the public review meetings are listed below.

The Public Meeting dates are:

1. Thursday, July 24, 2008, from 12:30 p.m. to 4:30 p.m. Washington, DC, Grand Hyatt Washington, 1000 H Street, NW., Washington, DC 20001.

2. Tuesday, July 29, 2008, from 12:30 p.m. to 4:30 p.m. and from 6 p.m. to 10 p.m. Butner, NC, Butner-Stem Middle School, 501 East D Street, Butner, NC 27509.

3. Thursday, July 31, 2008, from 12:30 p.m. to 4:30 p.m. and from 6 p.m. to 10 p.m. Manhattan, KS, Kansas State University, K-State Student Union, Manhattan, KS 66506.

4. Tuesday, August 5, 2008, from 12:30 p.m. to 4:30 p.m. and from 6 p.m. to 10 p.m. Flora, MS, First Baptist Church, Christian Life Center, 121 Center Street, Flora, MS 39071.

5. Thursday, August 7, 2008, from 12:30 p.m. to 4:30 p.m. and from 6 p.m. to 10 p.m. San Antonio, TX, Radisson Hill Country Resort, 9800 Westover Hills Boulevard, San Antonio, TX 78251.

6. Monday, August 11, 2008, from 6 p.m. to 10 p.m. Old Saybrook, CT, Saybrook Point Inn, Two Bridge Street, Old Saybrook, CT 06475.

7. Tuesday, August 12, 2008, from 6 p.m. to 10 p.m. Greenport, NY, Greenport School, 720 Front Street, Greenport, NY 11944.

8. Thursday, August 14, 2008, from 12:30 p.m. to 4:30 p.m. and from 6 p.m. to 10 p.m. Athens, GA, the University of Georgia, Center for Continuing Education, 1197 South Lumpkin Street, Athens, GA 30602.

Copies of the NBAF DEIS are available for review at the following locations:

Georgia

University of Georgia Main Library, 320 South Jackson Street, Athens, GA 30602.

Oconee County Library, 1080 Experiment Station Road, P.O. Box 837, Watkinsville, GA 30677.

Kansas

Manhattan Public Library, 629 Poyntz Avenue, Manhattan, KS 66502.

Hale Library, Kansas State University, Manhattan, KS 66506.

Mississippi

City of Flora Library, 144 Clark Street, Flora, MS 39071.

New York Site

Acton Public Library, 60 Old Boston Post Road, Old Saybrook, CT 06475.

Southold Free Library, 53705 Main Road, Southold, NY 11971.

North Carolina

Richard H. Thornton Library, 210 Main Street, Oxford, NC 27565-0339.

South Branch Library, 1547 South Campus Drive, Creedmoor, NC 27522.

Texas

Central Library, 600 Soledad, San Antonio, TX 78205.

Authority: 42 U.S.C. 4321-4347 (National Environmental Policy Act).

Dated: June 20, 2008.
Bruce Knight,
Under Secretary, Marketing and Regulatory Programs, USDA.
Jay M. Cohen,
Under Secretary, Science & Technology, DHS.

[FR Doc. E8-14526 Filed 6-26-08; 8:45 am]

BILLING CODE 4410-10-P